DEPARTMENT OF INTERIOR

Bureau of Land Management

[LLCO956000 L14200000.BJ0000]

Notice of Filing of Plats

AGENCY: Bureau of Land Management, Interior.

ACTION: Notice of Filing of Plats; Colorado.

SUMMARY: The Bureau of Land Management (BLM) Colorado State Office is publishing this notice to inform the public of the intent to file the land survey plats listed below and afford all affected parties a proper period of time to protest this action prior to the plat filing.

DATES: Unless there are protests of this action, the filing of the plats described in this notice will happen on July 19, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The plat and field notes of the dependent resurvey and survey in Township 7 North, Range 92 West, Sixth Principal Meridian, Colorado, were accepted on May 24, 2012.

The plat incorporating the field notes of the remonumentation of certain corners in Township 15 South, Range 97 West, Sixth Principal Meridian, Colorado, was accepted on May 25, 2012.

The plat and field notes of the dependent resurvey and subdivision of sections 4 and 5 in Township 47 North, Range 1 East, New Mexico Principal Meridian, Colorado, were accepted on June 4, 2012.

The plat and field notes of the dependent resurvey and survey in Township 48 North, Range 1 East, New Mexico Principal Meridian, Colorado, were accepted on June 4, 2012.

Randy Bloom,
Chief Cadastral Surveyor for Colorado.

[FR Doc. 2012-14913 Filed 6-18-12; 8:45 am]

BILLING CODE 4310-JB-P